DEPARTMENT OF ENERGY

Federal Energy Regulatory Commission

[Docket No. EC05-7-000, et al.]

Mesquite Investors, L.L.C., et al.; Electric Rate and Corporate Filings

October 26, 2004.

The following filings have been made with the Commission. The filings are listed in ascending order within each docket classification.

1. Mesquite Investors, L.L.C., Cedar Brakes I, L.L.C., Cedar Brakes II, L.L.C., Okwari CB Holdings LP

[Docket No. EC05-7-000]

Take notice that on October 22, 2004, Mesquite Investors, L.L.C. (Mesquite), Cedar Brakes I, L.L.C. (CB I), Cedar Brakes II, L.L.C. (CB II) and Okwari CB Holdings LP (Okwari CB) (jointly, Applicants) filed with the Federal Energy Regulatory Commission an application pursuant to section 203 of the Federal Power Act requesting that the Commission authorize the transfer of all of Mesquite's membership interests in CB I and CB II to Okwari CB. Applicants requested privileged treatment for certain exhibits pursuant to 18 CFR 33.9 and 388.112.

Comment Date: 5 p.m. eastern time on November 12, 2004.

2. Oasis Power Partners LLC

[Docket No. EC05-8-000]

Take notice that on October 22, 2004, Oasis Power Partners LLC (Oasis), filed an application requesting the Federal Energy Regulatory Commission to authorize the transfer and issuance of passive membership interests in Oasis to FC Energy Finance I, Inc., and The Northwestern Mutual Life Insurance Company, and, potentially, the transfer of membership interests in Oasis to Eurus Sagebrush I LLC, pursuant to section 203 of the Federal Power Act.

Comment Date: 5 p.m. eastern time on November 12, 2004.

3. California Independent System Operator Corporation

[Docket Nos. ER98-997-005, ER98-1309-004, ER02-2297-004, ER02-2298-004]

Take notice that on October 21, 2004, the California Independent System Operator Corporation (ISO) submitted a filing in compliance with the Commission's order issued September 21, 2004, in Docket No. ER98-997-003, et al. 108 FERC ¶ 61,273.

ISO states that this filing has been served upon all parties on the official service list for the captioned dockets. In addition, the ISO has posted this filing on the ISO Home Page.

Comment Date: 5 p.m. eastern time on November 12, 2004.

4. Duke Energy Moapa, LLC

[Docket No. ER05-59-000]

Take notice that on October 21, 2004, Duke Energy Moapa, LLC (Duke Moapa) submitted a Notice of Cancellation of FERC Electric Tariff, Original Volume No. 1, which was made effective by the Commission as of April 9, 2001, in Docket Nos. ER01-1208-000 and ER01-1208-001.

Duke Moapa states that a notice of the proposed cancellation has not been served on any party because Duke Energy Moapa, LLC does not engage in the marketing of electric energy or power at wholesale and has no customers.

Comment Date: 5 p.m. eastern time on November 12, 2004.

5. Southern California Edison Company

[Docket No. ER05-60-000]

Take notice that on October 20, 2004, Southern California Edison Company (SCE) submitted for filing the amended and restated Operating Procedures for the Power Contract between SCE and the Department of Water Resources of the State of California (CDWR). SCE states that the purpose of this filing is to change the method by which SCE compensates CDWR for transmission losses incurred in transmitting energy from SCE's entitlement to the power output of CDWR's Hyatt and Thermalito Powerplants between Table Mountain and Midway substations.

SCE states that copies of the filing were served upon the Public Utilities Commission of the State of California and CDWR.

Comment Date: 5 p.m. eastern time on November 10, 2004.

6. PJM Interconnection, L.L.C.

[Docket No. ER05-62-000]

Take notice that on October 21, 2004, PJM Interconnection, L.L.C. (PJM), submitted for filing an executed construction service agreement among PJM, Rolling Hills Landfill Gas, LLC, and Metropolitan Edison Company a FirstEnergy Company. PJM requests an effective date of September 21, 2004.

PJM states that copies of this filing were served upon the parties to the agreement and the state regulatory commissions within the PJM region.

Comment Date: 5 p.m. eastern time on November 12, 2004.

7. Merrill Lynch Commodities, Inc

[Docket No. ER05-63-000]

Take notice that on October 21, 2004, Merrill Lynch Commodities, Inc. (MLCI) petitioned the Commission to amend the Western Systems Power Pool Agreement to include MLCI as a participant.

Comment Date: 5 p.m. eastern time on November 12, 2004.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all parties to this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, D.C. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E4-2983 Filed 11-2-04; 8:45 am]

BILLING CODE 6717-01-P